ENVIRONMENTAL PROTECTION AGENCY

[ER-FRL-6684-5]

Environmental Impacts Statements; Notice of Availability

Responsible Agency: Office of Federal Activities, General Information (202) 564-7167 or http://www.epa.gov/compliance/nepa/.

Weekly receipt of Environmental Impact Statements

Filed 02/19/2007 through 02/23/2007

Pursuant to 40 CFR 1506.9.

EIS No. 20070065, Draft EIS, BLM, CA, Eastern San Diego County Resource Management Plan, Implementation, San Diego County, CA, Comment Period Ends: 05/31/2007, Contact: Erin Dreyfuss 760-337-4436.

EIS No. 20070066, Final EIS, BLM, AZ, Arizona Strip Field Office Resource Management Plan, which includes: Vermilion Cliffs National Monument, Grand-Canyon-Parashant National Monument (Parashant) BLM Portion, General Management Plan for the Grand Canyon-Parashant National Monument NPS Portion of Parashant, Implementation, AZ, Wait Period Ends: 04/02/2007, Contact: Diana Hawks 435-688-3266.

EIS No. 20070067, Draft EIS, SFW, PR, Vieques National Wildlife Refuge Comprehensive Conservation Plan, Implementation, Vieques, PR, Comment Period Ends: 04/30/2007, Contact: Jim Oland 410-573-4592.

EIS No. 20070068, Draft EIS, BLM, AZ, Ironwood Forest National Monument, Resource Management Plan, Implementation, Tucson Field Office, AZ, Comment Period Ends: 05/31/2007, Contact: Patrick Madigan 520-258-7200

EIS No. 20070069, Second Final Supplement, FHW, WV, Appalachian Corridor H Project, Construction of a 9-mile Long Segment between the Termini of Parsons and Davis, Updated Information the Parsons-to-Davis Project, Funding and U.S. Army COE Section 404 Permit Issuance, Tucker County, WV, Wait Period Ends: 04/27/2007, Contact: Thomas J. Smith 304-347-5928.

EIS No. 20070070, Second Draft Supplement, AFS, CA, Empire Vegetation Management Project, Supplemental Information to Clarify Cumulative Effects Analysis, Mount Hough Ranger District, Plumas National Forest, Plumas County, CA, Comment Period Ends: 04/16/2007, Contact: Gary Rotta 530-283-0555.

EIS No. 20070071, Draft EIS, USA, VA, Fort Belvoir 2005 Base Realignment and Closure (BRAC) Recommendations and Related Army Actions, Implementation, Fairfax County, VA, Comment Period Ends: 05/01/2007, Contact:

Karen Wilson 703-602-2861.

Amended Notices

EIS No. 20070044, Draft EIS, AFS, NM, Surface Management of Gas Leasing and Development, Proposes to Amend the Forest Plan include Standard and Guidelines Related to Gas Leasing and Development in the Jicarilla Ranger District, Carson National Forest, Rio Arriba County, NM, Comment Period Ends: 04/17/2007, Contact: Audrey Kuykendall 505-758-6212 Revision of FR Notice Published 02/16/2007: Extending Comment Period from 04/02/2007 to 04/17/2007.

Dated: February 27, 2007.
Robert W. Hargrove,
Director, NEPA Compliance Division, Office of Federal Activities.

[FR Doc. E7-3672 Filed 3-1-07; 8:45 am]

BILLING CODE 6560-50-P